SMALL BUSINESS ADMINISTRATION

[Declaration of Disaster #3364]

State of New York; (Amendment #1)

In accordance with a notice received from the Federal Emergency Management Agency, dated September 27, 2001, the above numbered declaration is hereby amended to include Delaware, Dutchess, Nassau, Orange, Putnam, Rockland, Suffolk, Sullivan, Ulster and Westchester Counties in the State of New York due to damages caused by explosions and fires at the World Trade Center which occurred on September 11, 2001.

In addition, applications for economic injury loans from small businesses located in the following contiguous counties may be filed until the specified date at the previously designated location: Broome, Chenango, Columbia, Greene, Otsego and Schohoarie in the State of New York; Fairfield and Litchfield Counties in the State of Connecticut; Berkshire County in the State of Massachusetts; Passaic and Sussex Counties in the State of New Jersey; and Pike and Wayne Counties in the State of Pennsylvania. All other contiguous counties have been previously declared.

The economic injury numbers assigned are 9M8700 for Connecticut; 9M8800 for Massachusetts; and 9M8900 for Pennsylvania.

All other information remains the same, i.e., the deadline for filing applications for physical damage is November 10, 2001, and for economic injury June 11, 2002.

(Catalog of Federal Domestic Assistance Program Nos. 59002 and 59008)

Dated: September 28, 2001.
James E. Rivera,
Acting Associate Administrator for Disaster Assistance.

[FR Doc. 01-24939 Filed 10-3-01; 8:45 am]

BILLING CODE 8025-01-P